DEPARTMENT OF COMMERCE

INTERNATIONAL TRADE ADMINISTRATION

[A-489-807]

Certain Steel Concrete Reinforcing Bars From Turkey; Final Results of Antidumping Duty Administrative Review

AGENCY: Import Administration, International Trade Administration, Department of Commerce.

ACTION: Notice of final results of antidumping duty administrative review.

SUMMARY: On May 4, 2001, the Department of Commerce published the preliminary results of administrative review of the antidumping duty order on certain steel concrete reinforcing bars from Turkey (66 FR 22525). This review covers four manufacturers/exporters of the subject merchandise to the United States. The period of review is April 1, 1999, through March 31, 2000.

Based on our analysis of the comments received, we have made changes in the margin calculations. Therefore, the final results differ from the preliminary results. The final weighted-average dumping margins for the reviewed firms are listed below in the section entitled “Final Results of Review.”

EFFECTIVE DATE: November 7, 2001.

FOR FURTHER INFORMATION CONTACT: Irina Itkin or Elizabeth Eastwood, Office of AD/CVD Enforcement, Office 2, Import Administration, International Trade Administration, U.S. Department of Commerce, 14th Street and Constitution Avenue, NW., Washington, DC 20230; telephone (202) 482-0656 or (202) 482-3874, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (2000).

Background

This review covers four manufacturers/exporters (i.e., Colakoglu Metalurji A.S. (Colakoglu), Diler Demir Celik Endustrisi ve Ticaret A.S., Yazici Demir Celik Sanayi ve Ticaret A.S., and Diler Dis Ticaret A.S. (collectively “Diler”), Ekinciler Holding A.S. and Ekinciler Demir Celik A.S. (collectively “Ekinciler”), and ICDAS Celik Enerji Tersane ve Ulasim Sanayi, A.S. (ICDAS)).

On May 4, 2001, the Department published in the Federal Register the preliminary results of administrative review of the antidumping duty order on certain steel concrete reinforcing bars (rebar) from Turkey. See Certain Steel Concrete Reinforcing Bars from Turkey; Preliminary Results of Antidumping Duty Administrative Review, 66 FR 22525 (May 4, 2001) (Preliminary Results).

We invited parties to comment on our preliminary results of review. The Department has conducted this administrative review in accordance with section 751 of the Act.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (HTSUS) under item numbers 7213.10.000 and 7214.20.000. The HTSUS subheadings are provided for convenience and customs purposes. The written description of the scope of this proceeding is dispositive.

Period of Review

The period of review (POR) is April 1, 1999, through March 31, 2000.

Cost of Production

As discussed in the Preliminary Results, we conducted an investigation to determine whether the respondents participating in the review made home market sales of the foreign like product during the POR at prices below their costs of production (COPs) within the meaning of section 773(b)(1) of the Act. We calculated the COP for these final results following the same methodology as in the Preliminary Results, except as discussed in the accompanying “Issues and Decision Memorandum” (Decision Memo) from Richard W. Moreland, Deputy Assistant Secretary, Import Administration, to Faryar Shirzad, Assistant Secretary for Import Administration, dated October 31, 2001.

As noted above, we determined that the Turkish economy experienced significant inflation during the POR. Therefore, in order to avoid the distortive effect of inflation on our comparison of costs and prices, we requested that each respondent submit the product-specific cost of manufacturing (COM) incurred during each month of the reporting period. We calculated a period-average COM for each product after indexing the reported monthly costs during the reporting period to an equivalent currency level using the Turkish Wholesale Price Index from the International Financial Statistics published by the International Monetary Fund. We then restated the period-average COMs in the currency values of each respective month.

We compared the weighted-average COP figures to home market prices of the foreign like product, as required under section 773(b) of the Act, in order to determine whether these sales had been made at prices below the COP. On a product-specific basis, we compared the COP to home market prices, less any applicable movement charges and selling expenses.

We found 20 percent or more of each respondent's sales of a given product during the reporting period were at prices less than the weighted-average COP for this period. Thus, we determined that these below cost sales were made in “substantial quantities” within an extended period of time and, for Colakoglu only, at prices which did not permit the recovery of all costs within a reasonable period of time in the normal course of trade. See sections 773(b)(2)(B), (C), and (D) of the Act. Regarding Diler, Ekinciler, and ICDAS, as discussed in the preliminary results, we granted these respondents six-month limited reporting periods, and we advised them that if they elected to limit their reporting of home market data to a six-month period, in the sales-below-cost investigation they would forgo the application of the “recovery of cost” test pursuant to section 773(b)(2)(D) of the Act. Diler, Ekinciler, and ICDAS agreed to accept this limitation. Consequently, without the application of the “recovery of cost” test, we determined that such sales were not made at prices which would permit recovery of all costs within a reasonable period of time, in accordance with section 773(b)(2)(D) of the Act.

Therefore, for purposes of these final results, we disregarded the below-cost sales for all respondents and used the remaining sales as the basis for determining normal value, pursuant to section 773(b)(1) of the Act. While we disregarded some below-cost sales, sufficient sales remained that passed the cost test in the current review. Therefore, it was unnecessary to calculate constructed value in this case.

Analysis of Comments Received

All issues raised in the case briefs by parties to this administrative review are addressed in the Decision Memo, which is hereby adopted by this notice. A list of the issues which parties have raised and to which we have responded, all of which are in the Decision Memo, is attached to this notice as an Appendix. Parties can find a complete discussion of all issues raised in this review and the corresponding recommendations in this public memorandum, which is on file in the Central Records Unit, room B-099, of the main Department building.

In addition, a complete version of the Decision Memo can be accessed directly on the Web at http://ia.ita.doc.gov. The paper copy and electronic version of the Decision Memo are identical in content.

Changes Since the Preliminary Results

Based on our analysis of comments received, we have made certain changes in the margin calculations. These changes are discussed in the relevant sections of the Decision Memo.

Final Results of Review

We determine that the following weighted-average margin percentages exist for the period April 1, 1999, through March 31, 2000:

Manufacturer/exporter | Percent margin
Colakoglu Metalurji A.S. | 9.51
Ekinciler Holding A.S./Ekinciler Demir Celik A.S. | 6.83
Diler Demir Celik Endustrisi ve Ticaret A.S./Yazici Demir Celik Sanayi ve Ticaret A.S./Diler Dis Ticaret A.S. | 0.00
ICDAS Celik Enerji Tersane ve Ulasim Sanayi A.S. | 0.00

The Department shall determine, and Customs shall assess, antidumping duties on all appropriate entries. Pursuant to 19 CFR 351.212(b)(1), for Diler, we have calculated importer-specific assessment rates based on the ratio of the total amount of antidumping duties calculated for the examined sales to the total entered value of those sales. Regarding Colakoglu, Ekinciler, and ICDAS, for assessment purposes, we do not have the information to calculate entered value because these companies are not the importers of record for the subject merchandise. Accordingly, we have calculated importer-specific duty assessment rates for the merchandise in question by aggregating the dumping margins calculated for all U.S. sales to each importer and dividing this amount by the total quantity of those sales. The assessment rate will be assessed uniformly on all entries of that particular importer made during the POR. Pursuant to 19 CFR 351.106(c)(2), we will instruct the Customs Service to liquidate without regard to antidumping duties any entries for which the assessment rate is de minimis (i.e., less than 0.50 percent).

Cash Deposit Requirements

The following deposit requirements will be effective upon publication of this notice of final results of administrative review for all shipments of rebar from Turkey entered, or withdrawn from warehouse, for consumption on or after the date of publication, as provided by section 751(a)(1) of the Act: 1) The cash deposit rates for the reviewed companies will be the rates indicated above; 2) for previously investigated companies not listed above, the cash deposit rate will continue to be the company-specific rate published for the most recent period; 3) if the exporter is not a firm covered in this review, or the less-than-fair-value (LTFV) investigation, but the manufacturer is, the cash deposit rate will be the rate established for the most recent period for the manufacturer of the merchandise; and 4) the cash deposit rate for all other manufacturers or exporters will continue to be 16.06 percent, the all others rate established in the LTFV investigation.

These deposit requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective order (APO) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination and notice in accordance with sections 751(a)(1) and 777(i) of the Act.

Dated: October 31, 2001.
Faryar Shirzad,
Assistant Secretary for Import Administration.

Appendix.—Issues in Decision Memo

Comments

1. Use of Facts Available.

2. Exchange Rates used for Currency Conversions.

3. Cost Recovery Test.

4. Home Market Sales Priced in U.S. Dollars.

5. Kur Farki Adjustment.

6. Colakoglu's Home Market Credit Expenses.

7. Colakoglu's Home Market Indirect Selling Expenses.

8. Different Costs for the Same Products Produced by Colakoglu.

9. Unreported Costs for Colakoglu.

10. Colakoglu's Production Quantities.

11. Colakoglu's Depreciation Expenses.

12. Colakoglu's G&A Expenses.

13. Colakoglu's Financing Expenses.

14. Costs for Different Grades of Rebar Produced by Diler.

15. Unreported Material Costs for Diler.

16. Diler's Depreciation Expenses.

17. Diler's G&A Expenses.

18. Diler's Financing Expenses.

19. Selling Expenses for Constructed Export Price.

20. Ekinciler's Home Market Freight Expenses.

21. Ekinciler's U.S. Freight Expenses.

22. Ekinciler's Home Market Credit Expenses.

23. Ekinciler's Scrap Costs.

24. Ekinciler's Depreciation Expenses.

25. Ekinciler's G&A Expenses.

26. Use of Consolidated Financing Expenses for Ekinciler.

27. Calculation of Ekinciler's Financing Expenses.

28. New Factual Information.

29. ICDAS's Scrap and Labor Costs.

30. ICDAS's Secondary Materials.

31. ICDAS's Packing Costs.

32. Treatment of ICDAS's Foreign Exchange Gains and Losses and Interest.

[FR Doc. 01-27975 Filed 11-6-01; 8:45 am]

BILLING CODE 3510-DS-P